DEPARTMENT OF TRANSPORTATION

Federal Aviation Administration

14 CFR Part 91

[Docket No. FAA-2014-0396]

Interpretation of the Special Rule for Model Aircraft; Withdrawal

AGENCY: Federal Aviation Administration (FAA), Department of Transportation (DOT).

ACTION: Notice of interpretation; withdrawal.

SUMMARY: This action withdraws the FAA's interpretation of the special rule for model aircraft. That interpretation no longer is valid or necessary because Congress repealed the special rule for model aircraft.

DATES: The interpretation published on June 25, 2014 (79 FR 36172) is withdrawn as of April 11, 2019.

FOR FURTHER INFORMATION CONTACT: Jonathan W. Cross, Regulations Division, Office of the Chief Counsel, Federal Aviation Administration, 800 Independence Avenue SW, Washington, DC 20591; telephone 202-267-7173; email: jonathan.cross@faa.gov.

SUPPLEMENTARY INFORMATION: Section 336 of the FAA Modernization and Reform Act of 2012 (FMRA) established the special rule for model aircraft (Pub. L. 112-95, Feb. 14, 2012). On June 25, 2014, the FAA published an interpretation of that special rule with a request for comments (79 FR 36172). The interpretation clarified, among other things, that: (1) Model aircraft must satisfy all criteria of section 336(a) to qualify as model aircraft and be exempt from future FAA rulemaking; and (2) the FAA retains enforcement authority against operators who endanger the safety of the national airspace system. The FAA received more than 18,000 comments from organizations and individuals to the interpretation.

Section 349 of the FAA Reauthorization Act of 2018 repealed section 336 of FMRA and replaced it with a new exception to conduct limited recreational operations of unmanned aircraft without FAA certification or operating authority (Pub. L. 115-254, Oct. 5, 2018).

As a result of the repeal of the special rule for model aircraft, the FAA's June 25, 2014, interpretation is no longer valid or necessary. Accordingly, the FAA is withdrawing the interpretation. Because that interpretation is withdrawn, the FAA will take no further action to respond to any comments to the interpretation.

Issued in Washington, DC, on March 12, 2019.
Daniel K. Elwell,
Acting Administrator.

[FR Doc. 2019-07215 Filed 4-10-19; 8:45 am]

BILLING CODE 4910-13-P